DEPARTMENT OF TRANSPORTATION

Resarch and Special Programs Administration

49 CFR Part 192

[Docket No. RSPA-00-7666; Notice 3]

RIN 2137-AD64

Pipeline Safety; High Consequence Areas for Gas Transmission Pipelines

Correction

Proposed Rule document 02-543 was inadvertently published in the Rules and Regulations section in the issue of Wednesday, January 9, 2002, appearing on page 1108. It should have appeared in the Proposed Rules section.

[FR Doc. C2-543 Filed 1-10-02; 8:45 am]

BILLING CODE 1505-01-D